COMMISSION ON CIVIL RIGHTS

Sunshine Act Notice

AGENCY: U.S. Commission on Civil Rights.

DATE AND TIME: Friday, October 12, 2001, 9:30 a.m.

PLACE: U.S. Commission on Civil Rights, 624 Ninth Street, NW., Room 540, Washington, DC 20425.

STATUS:

Agenda

I. Approval of Agenda

II. Approval of Minutes of September 14, 2001 Meeting

III. Announcements

IV. Staff Director's Report

V. State Advisory Committee Appointments for Alaska, Delaware, Maine, Michigan, Missouri, Montana, Nevada, North Dakota, Ohio, Pennsylvania, Rhode Island, South Dakota, Utah, Washington, Wisconsin, and Wyoming

VI. Future Agenda Items

Briefing on Boundaries of Justice: Immigration Policies Post September 11th

CONTACT PERSON FOR FURTHER INFORMATION: David Aronson, Press and Communications (202) 376-8312.

Les Jin,
Staff Director.

[FR Doc. 01-25079 Filed 10-2-01; 3:27 pm]

BILLING CODE 6335-01-M